DEPARTMENT OF HEALTH AND HUMAN SERVICES

Centers for Disease Control and Prevention

[30Day-17-0909]

Agency Forms Undergoing Paperwork Reduction Act Review

In accordance with the Paperwork Reduction Act of 1995, the Centers for Disease Control and Prevention (CDC) has submitted the information collection request titled CDC Diabetes Prevention Recognition Program (DPRP) to the Office of Management and Budget (OMB) for review and approval. CDC previously published a “Proposed Data Collection Submitted for Public Comment and Recommendations” notice on July 14, 2017 to obtain comments from the public and affected agencies. CDC received and responded to 33 unique public comments that were related to this notice from both individuals and organizations that are outside of CDC. Within those 33 of comments, there were 119 unique questions/comments that CDC answered. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

CDC Diabetes Prevention Recognition Program (DPRP)(OMB Control Number 0920-0909, exp. 12/31/2017)—Revision—National Center for Chronic Disease Prevention and Health Promotion (NCCDPHP), Centers for Disease Control and Prevention.

Background and Brief Description

Evidence from efficacy and effectiveness research studies has shown that lifestyle modifications leading to weight loss and increased physical activity can prevent or delay type 2 diabetes in persons with prediabetes or those at high risk of developing type 2. To translate these research findings into practice, Section 399V-3 of Public Law 111-148, directed CDC “to determine eligibility of entities to deliver community-based type 2 diabetes prevention services,” monitor and evaluate the services, and provide technical assistance. To this end, CDC's Division of Diabetes Translation (DDT) established and administers the DPRP as part of the National Diabetes Prevention Program, which recognizes organizations that deliver type 2 diabetes prevention programs according to requirements set forth in the “Centers for Disease Control and Prevention Recognition Program Standards and Operating Procedures” (Standards).

Currently CDC has 1,363 organizations in its DPRP registry. On July 7, 2016, the Centers for Medicare and Medicaid Services (CMS) proposed the Medicare Diabetes Prevention Program (MDPP). Sections 1102 and 1871 of the Social Security Act (42 U.S.C. 1302 and 1395hh § 424.59) authorized CDC-recognized organizations to prepare for enrollment as MDPP suppliers in order to bill CMS for these services beginning in 2018; only organizations in good standing with the CDC DPRP are eligible as MDPP suppliers. CDC anticipates an additional 500 organizations per year will apply for recognition.

Previously, in 2011, CDC received OMB approval to collect organizational and de-identified participant information needed to administer the DPRP (OMB No. 0920-0909, expired 11/30/2014). In 2015, CDC renewed these Standards for three years (OMB No. 0920-0909, expires 12/31/2017) to continue collecting information needed to manage the DPRP. Virtual organizations were added in the 2015 Standards based on new published evidence and to reach a broader audience.

Two levels of CDC recognition have been provided: Pending recognition for new applicants that have submitted an application and meet eligibility criteria defined by the Standards, and Full recognition for programs that have demonstrated effectiveness according to the Standards. CMS allows for a new recognition status, Preliminary, in addition to Pending and Full. MDPP reimbursement is directly tied to Preliminary and Full statuses. The intent of this current Standards' revision is to align with the CMS MDPP that will be finalized in 2017 and is scheduled to go in effect January 1, 2018, and to account for new evidence in the type 2 diabetes prevention literature. The MDPP benefit will scale type 2 diabetes prevention programs more broadly.

Estimated Annualized Burden Hours
Type of respondent | Form name | Number of respondents | Number of responses per respondent | Average burden per response (in hours) | Total burden (in hours)
Public sector organizations that deliver type 2 diabetes prevention programs | DPRP Application Form DPRP Evaluation Data | 150 350 | 1 2 | 1 2 | 150 1,400
Private sector organizations that deliver type 2 diabetes prevention programs | DPRP Application Form DPRP Evaluation Data | 350 1,444 | 1 2 | 1 2 | 350 5,776
Total |  |  |  |  | 7,676

Leroy A. Richardson,
Chief, Information Collection Review Office, Office of Scientific Integrity, Office of the Associate Director for Science, Office of the Director, Centers for Disease Control and Prevention.

[FR Doc. 2017-25494 Filed 11-24-17; 8:45 am]

BILLING CODE 4163-18-P